DEPARTMENT OF HEALTH AND HUMAN SERVICES

National Institutes of Health

Center for Scientific Review; Amended Notice of Meeting

Notice is hereby given of a change in the meeting of the Community-Level Health Promotion Study Section, October 21, 2013, 08:00 a.m. to October 22, 2013, 05:00 p.m., Hyatt Regency Bethesda, One Bethesda Metro Center, 7400 Wisconsin Avenue, Bethesda, MD 20814 which was published in the Federal Register on September 26, 2013, 78 FR 187 Pgs. 59361-59362.

The meeting will start on November 25, 2013 at 8:00 a.m. and end on November 25, 2013 at 5:00 p.m. The meeting location remains the same. The meeting is closed to the public.

Dated: October 25, 2013.
Anna Snouffer,
Deputy Director, Office of Federal Advisory Committee Policy.

[FR Doc. 2013-25888 Filed 10-30-13; 8:45 am]

BILLING CODE 4140-01-P